DEPARTMENT OF LABOR

Employment and Training Administration

[TA-W-40,023]

National Ford Chemical Company, Inc., Fort Mill, SC; Notice of Negative Determination Regarding Application for Reconsideration

By application of January 31, 2001, the company, requested administrative reconsideration of the Department's negative determination regarding eligibility for workers and former workers of the subject firm to apply for Trade Adjustment Assistance (TAA). The denial notice was signed on December 12, 2001 and published in the Federal Register on December 26, 2001 (66 FR 66426).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Nation Ford Chemical Company, Inc., Fort Hill, South Carolina engaged in administrative activities was denied because the worker group did not produced an article within the meaning of Section 222(3) of the Act.

The company alleges that further layoffs of production, maintenance and warehouse personnel occurred after the negative determination was issued.

During the initial decision, there was no indication that a threat of additional layoffs was imminent and therefore the investigation focused on the worker group engaged in administrative functions. The workers terminated after the date of the decision, were terminated beyond the relevant period of the investigation. Since conditions may have changed, a new TAA petition can be filed on behalf of the worker group so the Department can initiate a new investigation that would consider a potentially impacted worker group engaged in production of an article.

The petitioner further alleges that they believe imports contributed to the layoffs at the subject firm.

Before the Department examines if imports contributed importantly to the layoffs at the subject plant, it is imperative that worker group impacted be identified as engaged in the production of an article.

Conclusion

After review of the application and investigative findings, I conclude that there has been no error or misinterpretation of the law or of the facts which would justify reconsideration of the Department of Labor's prior decisions. Accordingly, the application is denied.

Signed at Washington, DC, this 1st day of April, 2002.
Edward A. Tomchick,
Director, Division of Trade Adjustment Assistance.

[FR Doc. 02-9759 Filed 4-19-02; 8:45 am]

BILLING CODE 4510-30-M